FEDERAL COMMUNICATIONS COMMISSION

47 CFR Parts 13 and 80

[WT Docket No. 00-48; RM-9499; FCC 00-105]

Maritime Communications

AGENCY: Federal Communications Commission.

ACTION: Proposed rule.

SUMMARY: In this document, the Commission proposes to consolidate, revise and streamline Rules governing maritime communications. These rule changes address new international maritime requirements, improve the operational ability of all users of marine radios and remove unnecessary or duplicative requirements from the Commission's Rules. This proposed action will not only reduce significantly the number of regulations applicable to the maritime community, but by removing duplicative regulations, it will reduce the potential for confusion.

DATES: Comments are due July 24, 2000, Reply Comment are due August 22, 2000.

ADDRESSES: Parties who choose to file comments by paper must file an original and four copies to the Commission's Secretary, Magalie Roman Salas, Office of the Secretary, Federal Communications Commission, 445 12th St., SW., Room TW-A325, Washington, DC 20554. Comments may also be filed using the Commission's Electronic Filing System, which can be accessed via the Internet at www.fcc.gov/e-file/ecfs.html.

FOR FURTHER INFORMATION CONTACT: Keith Fickner or Ghassan Khalek, Policy and Rules Branch, Public Safety and Private Wireless Division, Wireless Telecommunications Bureau at (202) 418-0680.

SUPPLEMENTARY INFORMATION: This is a summary of the Commission's Notice of Proposed Rule Making, WT Docket No. 00-48, FCC 00-105, adopted March 17, 2000, and released on March 24, 2000. The full text of this Notice of Proposed Rule Making is available for inspection and copying during normal business hours in the FCC Reference Center, Room CY-A257, 445 12th Street, SW., Washington, DC. The complete text may be purchased from the Commission's copy contractor, International Transcription Service, Inc., 1231 20th Street, NW., Washington, DC 20037. The full text may also be downloaded at: www.fcc.gov/Bureaus/Wireless/Notices/2000/fcc00105.doc. Alternative formats are available to persons with disabilities by contacting Martha Contee at (202) 418-0260 or TTY (202) 418-2555.

In this Notice of Proposed Rule Making, the Commission seeks comment on the proposals: (1) To modify the Commission's Rules to reflect revised international standards and recommendations which were endorsed by the International Maritime Organization (IMO) and the International Telecommunication Union (ITU), many at the initiation of the United States; and to reflect significant changes in IMO and ITU performance standards and regulations; (2) to allow radio-teletypewriter, data, telemetry, and telecommand transmissions on frequencies reserved for Morse code transmissions; (3) to apply the Commission's Global Maritime Distress and Safety System (GMDSS) Rules, or alternative safety measures, to the commercial fishing industry; (4) to create a new Restricted GMDSS Radio Operator License in order to provide a subordinate class of GMDSS license for radio operators aboard ships that operate exclusively within Sea Area A1 (an area extending approximately 20 miles from the coast); (5) to accept a proof of passing certificate from the United States Coast Guard training program, which includes both theoretical examinations and practical demonstrations of the candidate's ability to operate GMDSS equipment, as evidence that an applicant has met the obligations for any GMDSS operator license issued by the Commission; and (6) to remove the certification for Class A, B, and S emergency position indicating radiobeacons, which operate at 121.5 MHz and 243 MHz, due to their ineffectiveness in lifesaving operations.

Regulatory Flexibility Analysis

The Regulatory Flexibility Act (RFA) ¹ requires that an agency prepare a regulatory flexibility analysis for notice and comment rulemakings, unless the agency certifies that “the rule will not, if promulgated, have a significant economic impact on a substantial number of small entities.” ² In this Notice of Proposed Rule Making, the Commission proposes to consolidate, revise, and streamline the Commission's Rules governing maritime communications. The purpose of these proposed rule changes is to address new international maritime requirements, improve the operational ability of all users of marineradios and remove unnecessary or duplicative requirements from the Commission's Rules. In an effort to clarify the existing regulations, the Commission also proposes to make minor and non-substantive modifications to Part 80 of the Commission's Rules. The proposed rule changes do not impose any additional compliance burden on small entities regulated by the Commission. Accordingly, the Commission certifies, pursuant to section 605(b) of the RFA, that the rules proposed in this Notice of Proposed Rule Making will not, if promulgated, have a significant economic impact upon a substantial number of small entities, as that term is defined by the RFA.³ The Commission shall send a copy of this Notice of Proposed Rule Making, including a copy of this certification, to the Chief Counsel for Advocacy of the Small Business Administration in accordance with the RFA. We shall also publish a copy of this certification in the Federal Register.

¹ 5 U.S.C. 603.

² 5 U.S.C. 605(b). The RFA, see 5 U.S.C. 601 et. seq., has been amended by the Contract With America Advancement Act of 1996, Public Law 104-121, 110 Stat. 847 (1996) (CWAAA). Title II of the CWAAA is the Small Business Regulatory Enforcement Fairness Act of 1996.

³ 5 U.S.C. 605(b).

List of Subjects 47 CFR Parts 13 and 80

Communications equipment, Radio.

Federal Communications Commission.
Magalie Roman Salas,
Secretary.

[FR Doc. 00-10091 Filed 4-21-00; 8:45 am]

BILLING CODE 6712-01-P